FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 21, 2018.

A. Federal Reserve Bank of Dallas (Robert L. Triplett III, Senior Vice President) 2200 North Pearl Street, Dallas, Texas 75201-2272:

1. Kanwar Deep Suri, Dallas, Texas, and Noah Ratilal Shah, Bartonville, Texas; to each acquire voting shares of One World Holding, Inc., and thereby indirectly acquire voting shares of One World Bank, both of Dallas, Texas.

Board of Governors of the Federal Reserve System, October 30, 2018.
Ann Misback,
Secretary of the Board.

[FR Doc. 2018-24083 Filed 11-2-18; 8:45 am]

BILLING CODE 6210-01-P